POSTAL REGULATORY COMMISSION

Facility Tours

AGENCY: Postal Regulatory Commission.

ACTION: Notice of Commission tours.

SUMMARY: Commission staff and a Commissioner will tour two Washington area facilities to gain familiarity with current postal operations. On Thursday, December 17, 2009, beginning at 6 p.m., the group will tour the Southern Maryland processing and distribution center and network distribution center in Capitol Heights, Maryland. On Friday, December 18, 2009, beginning at 8 a.m., the group will tour the main Fairfax Post Office delivery unit in Fairfax City, Virginia.

DATES: December 17, 2009 and December 18, 2009.

FOR FURTHER INFORMATION CONTACT: Stephen L. Sharfman, general counsel, Postal Regulatory Commission, 202-789-6820 or stephen.sharfman@prc.gov.

Shoshana M. Grove,
Secretary.

[FR Doc. E9-30117 Filed 12-16-09; 8:45 am]

BILLING CODE 7710-FW-S